POSTAL SERVICE

Transfer of Post Office Box Service in Selected Locations to the Competitive Product List

AGENCY: Postal Service™.

ACTION: Notice.

SUMMARY: The Postal Service hereby provides notice that it has filed a request with the Postal Regulatory Commission to transfer Post Office Box service at approximately 6,800 locations from the Mail Classification Schedule's Market Dominant Product List to its Competitive Product List.

DATES: May 20, 2011.

FOR FURTHER INFORMATION CONTACT: Nabeel Cheema, 202-268-7178.

SUPPLEMENTARY INFORMATION: On May 13, 2011, the United States Postal Service® filed with the Postal Regulatory Commission a request to transfer Post Office Box service at locations serving populations that reside within five miles of private mailbox service providers from the Mail Classification Schedule's Market Dominant Product List to its Competitive Product List, pursuant to 39 U.S.C. 3642. The transfer would cover approximately 6,800 Post Office Box service locations, out of a total of approximately 31,000 locations offering Post Office Box service. Documents pertinent to this request are available at http://www.prc.gov, Docket No. MC2011-25.

Stanley F. Mires,
Chief Counsel, Legislative.

[FR Doc. 2011-12390 Filed 5-19-11; 8:45 am]

BILLING CODE 7710-12-P